DEPARTMENT OF AGRICULTURE

Rural Housing Service

Notice of Funds Availability (NOFA) Inviting Applications for the Rural Community Development Initiative (RCDI) for Fiscal Year 2011 and Fiscal Year 2012

AGENCY: Rural Housing Service, USDA.

ACTION: Notice.

SUMMARY: This Notice announces the availability of $8,611,000 of FYs 2011 and 2012 funding of competitive grant funds for the RCDI program through the Rural Housing Service (RHS), an agency within the USDA Rural Development mission area (Agency). Appropriation Acts made available $4,990,000 in FY 2011 and $3,621,000 in FY 2012 for the RCDI program for a total of $8,611,000 for the two fiscal years.

The RCDI grant program includes an initiative called the Rural Jobs and Innovation Accelerator Challenge. For FY 2011 and the FY 2012 RCDI funds will be divided between the traditional RCDI Program and the Rural Jobs and Innovation Accelerator Challenge as follows: $2,500,000 of the FY 2011 funds and $1,811,000 of the FY 2012 funds will be available for the traditional RCDI program and $2,490,000 of the FY 2011 funds and $1,810,000 of the FY 2012 will be reserved for awards through a Federal Funding Opportunity Announcement in partnership with the Department of Commerce Economic Development Administration (EDA) for the Rural Jobs and Innovation Accelerator Challenge. An application for “Rural Jobs and Innovation Accelerator Challenge” funds must be submitted to both USDA and EDA by an organization or a team of organizations that is individually or collectively eligible to receive funding from USDA and EDA. Additional information regarding the Rural Jobs and Innovation Accelerator Challenge can be found in Part VI and Part VII of this NOFA. Requirements outlined in Parts II, III, VIII, IX, X, and XI of this NOFA apply to both the Traditional RCDI Program and the Rural Jobs and Innovation Accelerator Challenge.

All applicants must provide matching funds in an amount at least equal to the Federal grant. These grants will be made to qualified intermediary organizations that will provide financial and technical assistance to recipients to develop their capacity and ability to undertake projects related to housing, community facilities, or community and economic development. This Notice lists the information needed to submit an application for these funds.

DATES: The deadline for receipt of an application—May 9, 2012. The application date is firm. The Agency will not consider any application received after the deadline. Applicants intending to mail applications must provide sufficient time to permit delivery on or before the closing deadline date and time. Acceptance by the United States Postal Service or private mailer does not constitute delivery. Facsimile (FAX) and postage due applications will not be accepted.

ADDRESSES: Entities wishing to apply for assistance may download the application documents and requirements delineated in this Notice from the RCDI Web site: http://www.rurdev.usda.gov/rhs/rcdi/index.htm. Application information for electronic submissions may be found at http://www.grants.gov. Applicants may also request paper application packages from the Rural Development office in their state. A list of Rural Development offices is included in this Notice.

FOR FURTHER INFORMATION CONTACT: The Rural Development office for the state the applicant is located in. A list of Rural Development State Office contacts is included in this Notice.

Programs Affected

This program is listed in the Catalog of Federal Domestic Assistance under Number 10.446. This program is not subject to the provisions of Executive Order 12372, which requires intergovernmental consultation with State and local officials because it is not listed by the Secretary of Agriculture, pursuant to 7 CFR 3015.302, as a covered program.

Paperwork Reduction Act

The paperwork burden has been cleared by the Office of Management and Budget (OMB) under OMB Control Number 0575-0180.

National Environmental Policy Act

This Notice has been reviewed in accordance with 7 CFR part 1940, subpart G, “Environmental Program.” Rural Development has determined that an Environmental Impact Statement is not required because the issuance of regulations and instructions, as well as amendments to them, describing administrative and financial procedures for processing, approving and implementing the Agency's financial programs is categorically excluded in the Agency's NEPA regulation found at 7 CFR 1940.310(e)(3) of Subpart G, Environmental Program. Thus, in accordance with the National Environmental Policy Act (NEPA) of 1969 (42 U.S.C. 4321-4347), Rural Development has determined that this NOFA does not constitute a major Federal action significantly affecting the quality of the human environment. Furthermore, individual awards under this NOFA are hereby classified as Categorical Exclusions according to 1940.310(e), the award of financial assistance for planning purposes, management and feasibility studies, or environmental impact analysis, which do not require any additional documentation.

SUPPLEMENTARY INFORMATION:

Overview

Federal Agency: Rural Housing Service.

Funding Opportunity Title: Rural Community Development Initiative.

Announcement Type: Initial Announcement.

Catalog of Federal Domestic Assistance (CFDA) Number: 10.446.

Part I—Funding Opportunity Description

Congress initially created the RCDI in Fiscal Year (FY) 2000 to develop the capacity and ability of nonprofit organizations, low-income rural communities, or federally recognized tribes to undertake projects related to housing, community facilities, or community and economic development in rural areas.

Part II—Award Information

Appropriation Acts have made available a total of $8,611,000 for RCDI for FYs 2011 and 2012. The FY 2011 and the FY 2012 appropriated RCDI funds will be divided between the traditional RCDI Program and the Rural Jobs and Innovation Accelerator Challenge as follows: $2,500,000 of the FY 2011 funds and $1,811,000 of the FY 2012 funds will be available for the traditional RCDI program and $2,490,000 of the FY 2011 funds and $1,810,000 of the FY 2012 will be reserved for awards through a Federal Funding Opportunity Announcement in partnership with the Department of Commerce Economic Development Administration for the Rural Jobs and Innovation Accelerator Challenge. The Rural Jobs Accelerator provides resources to support the development of clusters in approximately 20 regions, selected through a competitive inter-agency grant process, and assist rural distressed communities accelerate job creation by: leveraging local assets, building stronger communities, and creating regional linkages. Opportunities for accelerated job creation in rural regions can be found in numerous high-potential industry clusters, including renewable energy, food production, rural tourism, natural resources, and advanced manufacturing.

Qualified private, nonprofit and public (including tribal) intermediary organizations proposing to carry out financial and technical assistance programs will be eligible to receive the funding. The intermediary will be required to provide matching funds in an amount at least equal to the RCDI grant. The respective minimum and maximum grant amount per intermediary is $50,000 and $300,000. The intermediary must provide a program of financial and technical assistance to a private nonprofit, community-based housing and development organization, a low-income rural community or a federally recognized tribe.

Part III—Eligibility Information

A. Eligible Applicants

1. Qualified private, nonprofit, including faith-based and community organizations, in accordance with 7 CFR part 16, and public (including tribal) intermediary organizations. Definitions that describe eligible organizations and other key terms are listed below.

2. RCDI grantees that have an outstanding grant over 3 years old, as of the application due date in this Notice, will not be eligible to apply for this round of funding. Grant and matching funds must be utilized in a timely manner to ensure that the goals and objectives of the program are met.

B. Program Definitions

Agency—The Rural Housing Service (RHS) or its successor.

Beneficiary—Entities or individuals that receive benefits from assistance provided by the recipient.

Capacity—The ability of a recipient to implement housing, community facilities, or community and economic development projects.

Federally recognized tribes—Tribal entities recognized and eligible for funding and services from the Bureau of Indian Affairs, based on the current notice in the Federal Register published by the Bureau of Indian Affairs. Tribally Designated Housing Entities are eligible RCDI recipients.

Financial assistance—Funds, not to exceed $10,000 per award, used by the intermediary to purchase supplies and equipment to build the recipient's capacity.

Funds—The RCDI grant and matching money.

Intermediary—A qualified private, nonprofit (including faith-based and community organizations), or public (including tribal) organization that provides financial and technical assistance to multiple recipients.

Low-income rural community—An authority, district, economic development authority, regional council, or unit of government representing an incorporated city, town, village, county, township, parish, or borough whose median household income is at or below 80% of either the state or national Median Household Income as measured by the 2000 Census.

Recipient—The entity that receives the financial and technical assistance from the Intermediary. The recipient must be a private, non-profit community-based housing and development organization, a low-income rural community or a federally recognized Tribe.

Regional collaboration—Multi-jurisdictional areas typically within a State, territory, or Federally designated Tribal land but which can cross State, territory, or Tribal boundaries. The Regional Collaboration approach is intended to combine the resources of the Agency with those of State and local governments, educational institutions, and the private and nonprofit sectors to implement regional economic and community development strategies.

Rural and rural area—Any area other than (i) a city or town that has a population of greater than 50,000 inhabitants; and (ii) the urbanized area contiguous and adjacent to such city or town.

Technical assistance—Skilled help in improving the recipient's abilities in the areas of housing, community facilities, or community and economic development.

C. Cost Sharing or Matching

Matching funds—Cash or confirmed funding commitments. Matching funds must be at least equal to the grant amount and committed for a period of not less than the grant performance period. These funds can only be used for eligible RCDI activities. In-kind contributions such as salaries, donated time and effort, real and nonexpendable personal property and goods and services cannot be used as matching funds. Grant funds and matching funds must be used in equal proportions. This does not mean funds have to be used equally by line item. The request for advance or reimbursement and supporting documentation must show that RCDI fund usage does not exceed the cumulative amount of matching funds used. Grant funds will be disbursed pursuant to relevant provisions of 7 CFR parts 3015, 3016, and 3019, as applicable. Verification of matching funds must be submitted with the application.

The intermediary is responsible for demonstrating that matching funds are available, and committed for a period of not less than the grant performance period to the RCDI proposal. Matching funds may be provided by the intermediary or a third party. Other Federal funds may be used as matching funds if authorized by statute and the purpose of the funds is an eligible RCDI purpose. Matching funds must be used to support the overall purpose of the RCDI program. RCDI funds will be disbursed on an advance or reimbursement basis. Matching funds cannot be expended prior to execution of the RCDI Grant Agreement. No reimbursement will be made for any funds expended prior to execution of the RCDI Grant Agreement unless the intermediary is a non-profit or educational entity and has requested and received written Agency approval of the costs prior to the actual expenditure. This exception is applicable for up to 90 days prior to grant closing and only applies to grantees that have received written approval but have not executed the RCDI Grant Agreement. The Agency cannot retroactively approve reimbursement for expenditures prior to execution of the RCDI Grant Agreement.

D. Other Program Requirements

1. The recipient and beneficiary, but not the intermediary, must be located in an eligible rural area. The physical location of the recipient's office that will be receiving the financial and technical assistance must be in an eligible rural area. If the recipient is a low-income community, the median household income of the area where the office is located must be at or below 80 percent of the State or national median household income, whichever is higher. The applicable Rural Development State Office can assist in determining the eligibility of an area. A listing of Rural Development State Offices is included in this Notice. A map showing eligible rural areas can be found at the following link: http://eligibility.sc.egov.usda.gov/eligibility/welcomeAction.do?pageAction=RBSmenu&NavKey=property@13.

2. The recipients must be private nonprofit, including faith-based organizations, community-based housing and development organizations, low-income rural communities, or federally recognized tribes based on the RCDI definitions of these groups.

3. Documentation must be submitted to verify recipient eligibility. Acceptable documentation varies depending on the type of recipient. Private nonprofit, faith or community-based organizations must provide a certificate of incorporation and good standing from the Secretary of the State of incorporation, or other similar and valid documentation of nonprofit status. For low-income rural community recipients, the Agency requires evidence that the entity is a public body and census data verifying that the median household income of the community where the office receiving the financial and technical assistance is located is at, or below, 80 percent of the State or national median household income, whichever is higher. For Federally recognized tribes, the Agency needs the page listing their name from the current Federal Register list of tribal entities recognized and eligible for funding services (see the definition of federally recognized tribes in this Notice for details on this list). If a tribe has been federally recognized since the last list of federally recognized tribes was published in the Federal Register, appropriate documentation from the Department of the Interior, Bureau of Indian Affairs must be submitted that legally verifies that recognition.

4. Individuals cannot be recipients.

5. The intermediary must provide matching funds at least equal to the amount of the grant. Verification of matching funds must be submitted with the application. Matching funds must be committed for a period equal to the grant performance period.

6. The intermediary must provide a program of financial and technical assistance to the recipient.

7. The intermediary organization must have been legally organized for a minimum of 3 years and have at least 3 years prior experience working with private nonprofit community-based housing and development organizations, low-income rural communities, or tribal organizations in the areas of housing, community facilities, or community and economic development.

8. Proposals must be structured to utilize the grant funds within 3 years from the date of the award.

9. Each applicant, whether singularly or jointly, may submit one application for the traditional RCDI funds and one application for the Jobs Accelerator funds under this NOFA. This restriction does not preclude the applicant from providing matching funds for other applications.

10. Recipients can benefit from more than one RCDI application; however, after grant selections are made, the recipient can only benefit from multiple RCDI grants if the type of financial and technical assistance the recipient will receive is not duplicative. Funding for services to the same recipients must have separate and identifiable accounts for compliance purposes.

11. The intermediary and the recipient cannot be the same entity. The recipient can be a related entity to the intermediary, if it meets the definition of a recipient, provided the relationship does not create a conflict of interest that cannot be resolved to Rural Development's satisfaction.

12. A nonprofit recipient must provide evidence that it is a valid nonprofit when the intermediary applies for the RCDI grant. Organizations with pending requests for nonprofit designations are not eligible.

13. If the recipient is a low-income rural community, identify the unit of government to which the financial and technical assistance will be provided, e.g., town council or village board. The financial and technical assistance must be provided to the organized unit of government representing that community, not the community at large.

14. If a grantee has an outstanding RCDI grant over 3 years old, as of the application due date in this Notice, it is not eligible to apply for this round of funding.

15. The indirect cost category in the project budget should be used only when a grant applicant has a federally negotiated indirect cost rate. A copy of the current rate agreement must be provided with the application.

16. Grant applicants must obtain a Dun and Bradstreet Data Universal Numbering System (DUNS) number and register in the Central Contractor Registration (CCR) prior to submitting a pre-application pursuant to 2 CFR 25.200(b). In addition, an entity applicant must maintain registration in the CCR database at all times during which it has an active Federal award or an application or plan under construction by the Agency. Similarly, all recipients of Federal financial assistance are required to report information about first-tier sub-awards and executive compensation in accordance to 2 CFR part 170. So long as an entity applicant does not have an exception under 2 CFR 170.110(b), the applicant must have the necessary processes and systems in place to comply with the reporting requirements should the applicant receive funding. See 2 CFR 170.200(b).

Eligible Fund Uses

Fund uses must be consistent with the RCDI purpose. A nonexclusive list of eligible grant uses includes the following:

1. Provide technical assistance to develop recipients' capacity and ability to undertake projects related to housing, community facilities, or community and economic development, i.e., the intermediary hires a staff person to provide technical assistance to the recipient or the recipient hires a staff person, under the supervision of the intermediary, to carry out the technical assistance provided by the intermediary.

2. Develop the capacity of recipients to conduct community development programs, e.g., homeownership education or training for business entrepreneurs.

3. Develop the capacity of recipients to conduct development initiatives, e.g., programs that support micro-enterprise and sustainable development.

4. Develop the capacity of recipients to increase their leveraging ability and access to alternative funding sources by providing training and staffing.

5. Develop the capacity of recipients to provide the technical assistance component for essential community facilities projects.

6. Assist recipients in completing pre-development requirements for housing, community facilities, or community and economic development projects by providing resources for professional services, e.g., architectural, engineering, or legal.

7. Improve recipient's organizational capacity by providing training and resource material on developing strategic plans, board operations, management, financial systems, and information technology.

8. Purchase of computers, software, and printers, limited to $10,000 per award, at the recipient level when directly related to the technical assistance program being undertaken by the intermediary.

9. Provide funds to recipients for training-related travel costs and training expenses related to RCDI.

Ineligible Fund Uses

1. Pass-through grants, capacity grants, and any funds provided to the recipient in a lump sum that are not reimbursements.

2. Funding a revolving loan fund (RLF).

3. Construction (in any form).

4. Salaries for positions involved in construction, renovations, rehabilitation, and any oversight of these types of activities.

5. Intermediary preparation of strategic plans for recipients.

6. Funding prostitution, gambling, or any illegal activities.

7. Grants to individuals.

8. Funding a grant where there may be a conflict of interest, or an appearance of a conflict of interest, involving any action by the Agency.

9. Paying obligations incurred before the beginning date without prior Agency approval or after the ending date of the grant agreement.

10. Purchasing real estate.

11. Improvement or renovation of the grantee's, or recipient's office space or for the repair or maintenance of privately owned vehicles.

12. Any other purpose prohibited in 7 CFR parts 3015, 3016, and 3019, as applicable.

13. Using funds for recipient's general operating costs.

14. Using grant or matching funds for Individual Development Accounts.

15. Purchasing vehicles.

Program Examples and Restrictions

The purpose of this initiative is to develop or increase the recipient's capacity through a program of financial and technical assistance to perform in the areas of housing, community facilities, or community and economic development. Strengthening the recipient's capacity in these areas will benefit the communities they serve. The RCDI structure requires the intermediary (grantee) to provide a program of financial and technical assistance to recipients. The recipients will, in turn, provide programs to their communities (beneficiaries). The following are examples of eligible and ineligible purposes under the RCDI program. (These examples are illustrative and are not meant to limit the activities proposed in the application. Activities that meet the objectives of the RCDI program will be considered eligible.)

1. The intermediary must work directly with the recipient, not the ultimate beneficiaries. As an example: The intermediary provides training to the recipient on how to conduct homeownership education classes. The recipient then provides ongoing homeownership education to the residents of the community—the ultimate beneficiaries. This “train the trainer” concept fully meets the intent of this initiative. The intermediary is providing technical assistance that will build the recipient's capacity by enabling them to conduct homeownership education classes for the public. This is an eligible purpose. However, if the intermediary directly provided homeownership education classes to individuals in the recipient's service area, this would not be an eligible purpose because the recipient would be bypassed.

2. If the intermediary is working with a low-income community as the recipient, the intermediary must provide the technical assistance to the entity that represents the low-income community and is identified in the application. Examples of entities representing a low-income community are a village board or a town council. If the intermediary provides technical assistance to the Board of the low-income community on how to establish a cooperative, this would be an eligible purpose. However, if the intermediary works directly with individuals from the community to establish the cooperative, this is not an eligible purpose. The recipient's capacity is built by learning skills that will enable them to support sustainable economic development in their communities on an ongoing basis.

3. The intermediary may provide technical assistance to the recipient on how to create and operate a revolving loan fund. The intermediary may not monitor or operate the revolving loan fund. RCDI funds, including matching funds, cannot be used to fund revolving loan funds.

4. The intermediary may work with recipients in building their capacity to provide planning and leadership development training. The recipients of this training would be expected to assume leadership roles in the development and execution of regional strategic plans. The intermediary would work with multiple recipients in helping communities recognize their connections to the greater regional and national economies.

5. The intermediary could provide training and technical assistance to the recipients on developing emergency shelter and feeding, short-term housing, search and rescue, and environmental accident, prevention, and cleanup program plans. For longer term disaster and economic crisis responses, the intermediary could work with the recipients to develop job placement and training programs, and develop coordinated transit systems for displaced workers.

Part IV—Application and Submission Information for the Traditional RCDI Program

A. Address To Request Application Package

Entities wishing to apply for assistance may download the application documents and requirements delineated in this Notice from the RCDI Web site: http://www.rurdev.usda.gov/rhs/rcdi. Application information for electronic submissions may be found at http://www.grants.gov. Applicants may also request paper application packages from the Rural Development office in their state. A list of Rural Development State offices is included in this Notice.

B. Content and Form of Application Submission

If the applicant is ineligible or the application is incomplete, the Agency will inform the applicant in writing of the decision, reasons therefore, and its appeal rights and no further evaluation of the application will occur.

A complete application for RCDI funds must include the following:

1. A summary page, double-spaced between items, listing the following: (This information should not be presented in narrative form.)

a. Applicant's name,

b. Applicant's address,

c. Applicant's telephone number,

d. Name of applicant's contact person and telephone number,

e. Applicant's fax number,

f. County where applicant is located,

g. Congressional district number where applicant is located,

h. Amount of grant request, and

i. Number of recipients

2. A detailed Table of Contents containing page numbers for each component of the application.

3. A project overview, no longer than five pages, including the following items, which will also be addressed separately and in detail under “Building Capacity” of the “Evaluation Criteria.”

a. The type of technical assistance to be provided to the recipients and how it will be implemented.

b. How the capacity and ability of the recipients will be improved.

c. The overall goals to be accomplished.

d. The benchmarks to be used to measure the success of the program. Benchmarks should be specific and quantifiable.

4. Organizational documents, such as a certificate of incorporation and a current good standing certification from the Secretary of State where the applicant is incorporated and other similar and valid documentation of non-profit status, from the intermediary that confirms it has been legally organized for a minimum of 3 years as the applicant entity.

5. Verification of source and amount of matching funds, i.e., a copy of a bank statement if matching funds are in cash or a copy of the confirmed funding commitment from the funding source. The verification must show that matching funds are available for the duration of the grant performance period. The verification of matching funds must be submitted with the application or the application will be considered incomplete.

The applicant will be contacted by the Agency prior to grant award to verify that the matching funds provided with the application continue to be available. The applicant will have 15 working days from the date contacted to submit verification that matching funds continue to be available. If the applicant is unable to provide the verification within that timeframe, the application will be considered ineligible. The applicant must maintain bank statements on file or other documentation for a period of at least three years after grant closing except that the records shall be retained beyond the three-year period if audit findings have not been resolved.

6. The following information for each recipient:

a. Recipient's entity name,

b. Complete address (mailing and physical location, if different),

c. County where located,

d. Number of Congressional district where recipient is located,

e. Contact person's name and telephone number, and

f. Form RD 400-4, “Assurance Agreement.” If the Form RD 400-4 is not submitted for a recipient, the recipient will be considered ineligible. No information pertaining to that recipient will be included in the income or population scoring criteria and the requested funding may be adjusted due to the deletion of the recipient.

7. Submit evidence that each recipient entity is eligible:

a. Nonprofits—provide a current valid letter confirming non-profit status from the Secretary of the State of incorporation or the IRS, a current good standing certification from the Secretary of the State of incorporation, or other valid documentation of nonprofit status of each recipient.

b. Low-income rural community—provide evidence the entity is a public body, and a copy of the 2000 census data to verify the population, and evidence that the median household income is at, or below, 80 percent of either the State or the national income. We will only accept data and printouts from http://www.census.gov. The specific instructions to retrieve data from this site are detailed under the “Evaluation Criteria” for “Population” and “Income.”

c. Federally recognized tribes—provide the page listing their name from the Federal Register list of tribal entities published by the Bureau of Indian Affairs on October 1, 2010 (75 FR 60810) or a subsequent updated list or supplement in the Federal Register. If a tribe has been federally recognized since the last list of federally recognized tribes was published in the Federal Register, appropriate documentation from the Department of the Interior, Bureau of Indian Affairs must be submitted that legally verifies that recognition.

8. Each of the ”Evaluation Criteria” must be addressed specifically and individually by category. Present these criteria in narrative form. Documentation must be limited to three pages per criterion. The “Population” and “Income” criterions for recipient locations can be provided in the form of a list; however, the source of the data must be included on the page(s).

9. A timeline identifying specific activities and proposed dates for completion.

10. A detailed project budget that includes the RCDI grant amount and matching funds. This should be a line-item budget, by category. Categories such as salaries, administrative, other, and indirect costs that pertain to the proposed project must be clearly defined. Supporting documentation listing the components of these categories must be included. The budget should be dated: year 1, year 2, year 3, as applicable.

11. Form SF-424, “Application for Federal Assistance.” (Do not complete Form SF-424A, “Budget Information.” A separate line-item budget should be presented as described in No. 10 of this section.)

12. Form SF-424B, “Assurances—Non-Construction Programs.”

13. Form AD-1047, “Certification Regarding Debarment, Suspension, and Other Responsibility Matters—Primary Covered Transactions.”

14. Form AD-1048, “Certification Regarding Debarment, Suspension, Ineligibility and Voluntary Exclusion—Lower Tier Covered Transactions.”

15. Form AD-1049, “Certification Regarding Drug-Free Workplace Requirements.”

16. Certification of Non-Lobbying Activities.

17. Standard Form LLL, “Disclosure of Lobbying Activities,” if applicable.

18. Form RD 400-4, “Assurance Agreement,” for the applicant.

19. Identify and report any association or relationship with Rural Development employees.

20. For grants, the applicant's Dun and Bradstreet Data Universal Numbering Systems (DUNS) number and registration in the Central Contractor Registration (CCR) database in accordance with 2 CFR part 25. As required by the Office of Management and Budget (OMB), all grant applications must provide a DUNS number when applying for Federal grants, on or after October 1, 2003. Organizations can receive a DUNS number at no cost by calling the dedicated toll-free number at 1-866-705-5711 or via Internet at http:www.dnb.com/us/. Additional information concerning this requirement can be obtained on the Grants.gov Web Site at http://www.grants.gov. Similarly, applicants may register for the CCR at https://uscontractingregistration.com or by calling 1-877-252-2700.

The required forms and certifications can be downloaded from the RCDI Web site at: http://www.rurdev.usda.gov/rhs/rcdi.

C. Other Submission Information

Survey on Ensuring Equal Opportunity for Applicants, OMB No. 1894-0010 Exp. 05/31/2012 (applies only to non-profit applicants only—submission is optional).

The original application package must be submitted to the Rural Development State Office where the applicant's headquarters is located. A listing of Rural Development State Offices is included in this Notice. Applications will not be accepted via FAX or electronic mail.

Applicants may file an electronic application at http://www.grants.gov. Grants.gov contains full instructions on all required passwords, credentialing, and software. Follow the instructions at Grants.gov for registering and submitting an electronic application.

If a system problem or technical difficulty occurs with an electronic application, please use the customer support resources available at the Grants.gov Web site.

Technical difficulties submitting an application through Grants.gov will not be a reason to extend the application deadline. If an application is unable to be submitted through Grants.gov, a paper application must be received in the appropriate Rural Development State Office by the deadline noted previously.

First time Grants.gov users should carefully read and follow the registration steps listed on the Web site. These steps need to be initiated early in the application process to avoid delays in submitting your application online.

In order to register with the Central Contractor Registry (CCR), your organization will need a DUNS number. Be sure to complete the Marketing Partner ID (MPID) and Electronic Business Primary Point of Contact fields during the CCR registration process. These are mandatory fields that are required when submitting grant applications through Grants.gov. Additional application instructions for submitting an electronic application can be found by selecting this funding opportunity on Grants.gov.

The deadline for receipt of an application is May 9 by 4 p.m. local time. The application deadline date and time are firm and apply to submission of the original application to the Rural Development State Office where the applicant's headquarters is located. The Agency will not consider any application received after the deadline. A listing of Rural Development State Offices, their addresses, telephone numbers, and contact person is provided elsewhere in this Notice. Applicants intending to mail applications must allow sufficient time to permit delivery on or before the closing deadline date and time. Acceptance by the United States Postal Service or private mailer does not constitute delivery. Fax, electronic mail or postage due applications will not be accepted.

D. Funding Restrictions

Meeting expenses. In accordance with 31 U.S.C. 1345, “Expenses of Meetings,” appropriations may not be used for travel, transportation, and subsistence expenses for a meeting. RCDI grant funds cannot be used for these meeting-related expenses. Matching funds may be used to pay for these expenses. RCDI funds may be used to pay for a speaker as part of a program, equipment to facilitate the program, and the actual room that will house the meeting. RCDI funds can be used for travel, transportation, or subsistence expenses for program-related training and technical assistance purposes. Any training not delineated in the application must be approved by the Agency to verify compliance with 31 U.S.C. 1345. Travel and per diem expenses will be similar to those paid to Agency employees. Rates are based upon location. Rate information can be obtained from the applicable Rural Development State Office.

Grantees and recipients will be restricted to traveling coach class on common carrier airlines. When lodging is not available at the government rate, grantees and recipients may exceed the Government rate for lodging by a maximum of 20 percent. Meals and incidental expenses will be reimbursed at the same rate used by Agency employees. Mileage and gas reimbursement will be the same rate used by Agency employees. This rate may be obtained from the applicable Rural Development State Office.

Part V—Application Review Information for the Traditional RCDI Program

A. Evaluation Criteria

Applications will be evaluated using the following criteria and weights:

1. Building Capacity—Maximum 60 Points

The applicant must demonstrate how they will improve the recipients' capacity, through a program of financial and technical assistance, as it relates to the RCDI purposes. Capacity-building financial and technical assistance should provide new functions to the recipients or expand existing functions that will enable the recipients to undertake projects in the areas of housing, community facilities, or community and economic development that will benefit the community. The program of financial and technical assistance provided, its delivery, and the measurability of the program's effectiveness will determine the merit of the application. All applications will be competitively ranked with the applications providing the most improvement in capacity development and measurable activities being ranked the highest. Capacity-building financial and technical assistance may include, but is not limited to: training to conduct community development programs, e.g., homeownership education, or the establishment of minority business entrepreneurs, cooperatives, or micro-enterprises; organizational development, e.g., assistance to develop or improve board operations, management, and financial systems; instruction on how to develop and implement a strategic plan; instruction on how to access alternative funding sources to increase leveraging opportunities; staffing, e.g., hiring a person at intermediary or recipient level to provide technical assistance to recipients.

a. The narrative response must:

i. Describe the nature of financial and technical assistance to be provided to the recipients and the activities that will be conducted to deliver the technical assistance;

ii. Explain how financial and technical assistance will develop or increase the recipient's capacity. Indicate whether a new function is being developed or if existing functions are being expanded or performed more effectively;

iii. Identify which RCDI purpose areas will be addressed with this assistance: housing, community facilities, or community and economic development; and

iv. Describe how the results of the technical assistance will be measured. What benchmarks will be used to measure effectiveness? Benchmarks should be specific and quantifiable.

b. The maximum 60 points for this criterion will be broken down as follows:

i. Type of financial and technical assistance and implementation activities. 35 points.

ii. An explanation of how financial and technical assistance will develop capacity. 10 points.

iii. Identification of the RCDI purpose. 5 points.

iv. Measurement of outcomes. 10 points.

2. Expertise—Maximum 30 Points

The applicant must demonstrate that it has conducted programs of financial and technical assistance and achieved measurable results in the areas of housing, community facilities, or community and economic development in rural areas. Provide the name, contact information, and the type and amount of the financial and technical assistance the applicant organization has provided to the following for the last 3 years:

a. Nonprofit organizations in rural areas.

b. Low-income communities in rural areas, (also include the type of entity, e.g., city government, town council, or village board).

c. Federally recognized tribes or any other culturally diverse organizations.

3. Population—Maximum 30 Points

Population is based on the average population from the 2000 census data for the communities in which the recipients are located. The physical address, not mailing address, for each recipient must be used for this criterion. Community is defined for scoring purposes as a city, town, village, county, parish, borough, or census-designated place where the recipient's office is physically located. The applicant must submit the census data from the following Web site in the form of a printout of the applicable “Fact Sheet” to verify the population figures used for each recipient. The data can be accessed on the Internet at http://www.census.gov; click on “American FactFinder” from the left menu; click on “Fact Sheet” from the left menu; at the right, fill in one or more fields and click “Go”; the name and population data for each recipient location must be listed in this section. The average population of the recipient locations will be used and will be scored as follows:

Population | Scoring (points)
5,000 or less | 30
5,001 to 10,000 | 20
10,001 to 20,000 | 10
20,001 to 50,000 | 5

4. Income—Maximum 30 Points

The average of the median household income for the communities where the recipients are physically located will determine the points awarded. The physical address, not mailing address, for each recipient must be used for this criterion. Applicants may compare the average recipient median household income to the State median household income or the national median household income, whichever yields the most points. The national median household income to be used is $41,994. The applicant must submit the income data in the form of a printout of the applicable information from the following Web site to verify the income for each recipient. The data being used is from the 2000 census. The data can be accessed on the Internet at http://www.census.gov; click on “American FactFinder” from the left menu; click on “Fact Sheet” from the left menu; at the right, fill in one or more fields and click “Go”; the name and income data for each recipient location must be listed in this section. Points will be awarded as follows:

Average recipient median income | Scoring (points)
Less than 60 percent of state or national median household income | 30
From 60 to 70 percent of state or national median household income | 20
Greater than 70 to 80 percent of state or national median household income | 10
In excess of 80 percent of state or national median household income | 0

5. Soundness of Approach—Maximum 50 Points

The applicant can receive up to 50 points for soundness of approach. The overall proposal will be considered under this criterion. Applicants must list the page numbers in the application that address these factors.

The maximum 50 points for this criterion will be broken down as follows:

a. The ability to provide the proposed financial and technical assistance based on prior accomplishments has been demonstrated. 10 Points.

b. The proposed financial and technical assistance program is clearly stated and the applicant has defined how this proposal will be implemented. The plan for implementation is viable. 10 Points.

c. Cost effectiveness will be evaluated based on the budget in the application. The proposed grant amount and matching funds should be utilized to maximize capacity building at the recipient level. 15 points.

d. The proposal fits the objectives for which applications were invited. 15 points.

6. Technical Assistance for the Development of Renewable Energy Systems and Energy Efficiency Improvements—Maximum 20 Points

The applicant must demonstrate how they will improve the recipients' capacity to carry out activities related to the development of renewable energy systems and energy efficiency improvements for housing, community facilities, or community and economic development.

7. Regional Collaboration Applications—Maximum 20 Points

The Agency encourages applications that promote substantive economic growth, including job creation, as well as specifically addressing the circumstances of those sectors within the region that have fewer prospects and the greatest need for improved economic opportunity.

A Regional Collaboration project should implement goals, objectives or actions identified in a Regional Strategic Plan which addresses priorities specified at a regional scale. Applications should demonstrate:

a. Clear leadership at the Intermediary level in organizing and coordinating a regional initiative;

b. Evidence that the Recipient's region has a common economic basis that supports the likelihood of success in implementing its strategy;

c. Evidence that technical assistance will be provided that will increase the Recipient's capacity to assess their circumstance, determine a long term sustainable vision for the region, and implement a comprehensive strategic plan, including identifying performance measures and establishing a system to collect the data to allow assessment of those performance measures.

8. Local Investment Points—Maximum 20 Points

Intermediaries must be physically located in an eligible rural community and must include evidence of investment in the community. The intent is to ensure that RCDI funds are expended in the rural community.

9. State Director's Points Based on Project Merit—Maximum 20 Points

This criterion does not have to be addressed by the applicant. Up to 20 points may be awarded by the Rural Development State Director. Points may be awarded to more than one application per state or jurisdiction. The total points awarded under this criterion, to all applications, will not exceed 20. Assignment of points will include a written justification and be tied to and awarded based on how closely they align with the Rural Development State Office's strategic plan.

10. Proportional Distribution Points—20 Points

This criterion does not have to be addressed by the applicant. After applications have been evaluated and awarded points under the first 9 criteria, the Agency may award 20 points per application to promote an even distribution of grant awards between the ranges of $50,000 to $300,000.

B. Review and Selection Process

Rating and ranking. Applications will be rated and ranked on a national basis by a review panel based on the “Evaluation Criteria” contained in this Notice. If there is a tied score after the applications have been rated and ranked, the tie will be resolved by reviewing the scores for “Building Capacity” and the applicant with the highest score in that category will receive a higher ranking. If the scores for “Building Capacity” are the same, the scores will be compared for the next criterion, in sequential order, until one highest score can be determined.

Initial screening. The Agency will screen each application to determine eligibility during the period immediately following the application deadline. Listed below are examples of reasons for rejection from previous funding rounds. The following reasons for rejection are not all inclusive; however, they represent the majority of the applications previously rejected.

1. Recipients were not located in eligible rural areas based on the definition in this Notice.

2. Applicants failed to provide evidence of recipient's status, i.e., documentation supporting nonprofit evidence of organization.

3. Applicants failed to provide evidence of committed matching funds or matching funds were not committed for a period at least equal to the grant performance period.

4. Application did not follow the RCDI structure with an intermediary and recipients.

5. Recipients were not identified in the application.

6. Intermediary did not provide evidence it had been incorporated for at least 3 years as the applicant entity.

7. Applicants failed to address the “Evaluation Criteria.”

8. The purpose of the proposal did not qualify as an eligible RCDI purpose.

9. Inappropriate use of funds (e.g., construction or renovations).

10. The applicant proposed providing financial and technical assistance directly to individuals.

11. The application package not received by closing date and time.

Part VI—Rural Jobs Accelerator and Innovation Challenge Application Process

An application for “Rural Jobs and Innovation Accelerator Challenge” funds must be submitted to USDA and EDA by an organization or a team of organizations that is individually or collectively eligible to receive funding from USDA and EDA.

Required Application Forms and Content

To be considered complete, an application package must consist of:

(1) Required forms as discussed below;

(2) Project Narrative; and

(3) Addenda to the Project Narrative.

Applications that do not contain all required forms listed below, or that fail to adhere to the instructions in this Notice, will be considered non-responsive and will not be considered for funding. Additional application materials not requested under this Notice will not be reviewed or evaluated.

Applicants are advised to carefully read the instructions contained in this Notice and in all forms contained in the application package. It is the sole responsibility of each applicant to ensure that a complete application package is received.

Required Forms

All applicants are required to submit the following forms at the time of application. The forms should be uploaded as separate portable document format (PDF) files. Forms are available in the application package at www.grants.gov or on the Rural Jobs Accelerator Web site under `application submission information'.

Each USDA applicant must submit the following forms.

• Form SF-424—Application for Federal Assistance for the applicant

• Form SF-424A—Budget Information- Non-Construction Programs for the applicant

• Form SF-424B—Assurances—Non-Construction Programs for the applicant

• Form CD-511—Certification Regarding Lobbying for the USDA and EDA applicant

• Form RD-400-4—Assurance Agreement, for the applicant and each RCDI Recipient

• Form AD-1047—Certification Regarding Debarment, Suspension, and Other Responsibility Matters—Primary Covered Transactions

• Form AD-1048—Certification Regarding Debarment, Suspension, Ineligibility, and Voluntary Exclusion—Lower Tier Covered Transactions

• Form AD-1049—Certification Regarding Drug-Free Workplace Requirements

• Identity and report any association or relationship with Rural Development employees.

• Survey on Ensuring Equal Opportunity for Applicants, OMB No. 1894-0010 Exp. 05/13/2012 (applies only to non-profit applicants—submission is optional)

• Form SF-LLL—Disclosure of Lobbying Activities, if applicable

Project Description

The Project Description must demonstrate the applicant's capability to implement the proposed activities in accordance with the requirements of this NOFA. The Project Description must demonstrate how each scope of work (individually funded by each Funding Agency) is integrated into an overarching project.

The full Project Description must include the following components:

Executive Summary:

Not to exceed two pages, the Executive Summary will serve as a summary of the proposed project and may be shared publicly in the form originally submitted; therefore, applicants should not include proprietary, confidential commercial/business, and personally identifiable information. The Executive Summary must include the following sections: (a) The project name; (b) the organizations composing the Applicant Team; (c) the identified region and cluster; (d) a summary of the integrated project and project objectives; (e) a brief description of the scopes of work to be funded by each funding source and the associated performance measures; and (f) a summary of how the capacity of the recipients will be improved and the regional strength will be increased.

Project Narrative:

The Project Narrative should be a detailed description of all activities that will be undertaken by all sources of funds requested under this solicitation. Within the Project Narrative, applicants should address all the evaluation criteria, as outlined in section VI.A:

1. Region and Cluster of Focus;

2. Integrated Project Concept/Overview;

3. Building Community and Regional Capacity (USDA scope of work);

4. Developing Regional Links (EDA scope of work);

5. ARC or DRA scope of work (only applicable to applicants seeking funding from ARC or DRA);

6. Project Impact and Measurable Outcomes; and

7. Soundness of Approach.

The length of the Project Narrative is limited to 25 double-spaced, 8.5 x 11 inch pages with 12-point font and 1-inch margins. Applicants may include a map delineating the region at the end of the Project Narrative, which will not count towards the 25 page limit. Any Project Narrative text beyond the specified page limit will not be read. Applicants must number the pages of the Project Narrative, beginning with page number 1. The Project Narrative should be submitted as one PDF file, and only one Project Narrative should be submitted per application. Note: the page limit described in this section may be increased to 30 pages if the Applicant Team is also seeking funding from ARC or DRA.

Integrated Work Plan

Applicants must input details of proposed activities under each scope of work from the Project Narrative, as well as expected/estimated impacts of the activities, into an Integrated Work Plan.

Budget Description

A separate budget narrative must be created and submitted to support the scope of work for each Funding Agency, and each narrative must provide a description of costs associated with each line item on each Form SF-424A over the project period. Supporting documentation listing the components of these categories must be included. The budget should be dated: Year 1, Year 2, Year 3, as applicable. The budget narrative should include a personnel plan listing all positions that will be charged to the Federal and non-Federal portion of the budget for each year of the applicable project period. The personnel plan must include the position titles, salaries, percentage of time dedicated to the project, and amount of salary charged to the project for each staff member assigned to the project. The sum of all salaries charged to the project must equal the amount on the “Personnel” budget line item on Form SF-424A. The personnel plan should provide a description of how the personnel will carry out the proposed plan, including the adequacy and previous performance of the proposed team to carry out project activities.

Addenda to the Project Description

The applicant must also submit the following required addenda to the Project Description in PDF file.

The required addenda to the Project Description are:

• Resumes of Key Personnel (by Funding Agency): Applicants must provide resumes for key personnel staff which generally should not exceed two pages in length (per resume). Applicants also should provide a 2 page summary description of all personnel (performing for the applicant) and contractors named in the application. Resumes should be uploaded as one PDF file.

• Verification of Matching Funds

○ Verification of source and amount of matching funds: Each USDA applicant must provide verification of source and amount of matching funds, i.e., a copy of a bank statement if matching funds are in cash or a copy of the confirmed funding commitment from the funding source. The verification must show that matching funds are available for the duration of the grant performance period. The verification of matching funds must be submitted with the application or the application will be considered incomplete.

Applicant Team Written Agreement: If the USDA Applicant is applying for funds under this Notice in partnership with and EDA applicant, the Applicant Team must provide a copy of the written agreement signed by each team member that reflects a binding commitment to undertake the proposed project, the respective scopes of work, and perform the roles and responsibilities identified in the Project Narrative. The Agreement must include the project title and list each applicant and the source of funds they are applying for.

• Facilities and Administrative or Indirect Cost Rate Agreement

○ The indirect cost category in the project budget should be used only when a grant applicant has a federally negotiated indirect cost rate. A copy of the current rate agreement must be provided with the application.

• Non-profit organizations: Non-profit organizations applying for funding must submit the following, addition to all items listed above.

○ Organization documents, such as a certificate of incorporation and a current good standing certification from the Secretary of State where the applicant is incorporated and other similar and valid documentation of non-profit status, from the intermediary that confirms it has been legally organized for a minimum of 3 years as the applicant entity.

• Recipient Information: Applicants must provide the following information for each recipient. Please combine into a single PDF file.

1. A summary page, double-spaced between items, listing the following for each recipient (this information should not be presented in narrative form):

a. Recipient's entity name;

b. Complete address (mailing and physical location, if different);

c. County where located;

d. Number of Congressional district where recipient is located; and

e. Contact person's name and telephone number.

2. Submit evidence that each recipient entity is eligible:

a. Nonprofits—provide a current valid letter confirming non-profit status from the Secretary of the State of incorporation or the IRS, a current good standing certification from the Secretary of the State of incorporation, or other valid documentation of nonprofit status of each recipient.

b. Low-income rural community—provide evidence the entity is a public body, and a copy of the most recent available census data to verify the population, and evidence that the median household income is at, or below, 80 percent of the national median household income. We will only accept data and printouts from http://www.census.gov. The specific instructions to retrieve data from this site are detailed under the “Evaluation Criteria” for “Population” and “Income.”

c. Federally recognized tribes—provide the page listing their name from the Federal Register list of tribal entities published by the Bureau of Indian Affairs on October 1, 2010 (75 FR 60810) or a subsequent updated list or supplement in the Federal Register. If a tribe has been federally recognized since the last list of federally recognized tribes was published in the Federal Register, appropriate documentation from the Department of the Interior, Bureau of Indian Affairs must be submitted that legally verifies that recognition.

Part VII—Application Review Process for the Rural Jobs Accelerator Challenge

Evaluation Criteria

Applications will be evaluated based on their ability to satisfy the following core evaluation criteria, with each criterion assigned the points indicated.

1. Region and Cluster of Focus (15 Points)

The applicant must describe the region of focus (see page 4) for which the funding is requested, including the economics, clusters, and the networks and assets that contribute to the region's competitiveness and potential for growth.

The narrative response must:

• Clearly describe the geographic region of the proposed project. Regions may be single or multi-jurisdictional areas. Applicants have the flexibility to define their region based on quantitative and qualitative information about where and how the cluster targeted for development operates.¹ The region description should include the location of project recipients for the Building Community and Regional Capacity activity. Applicants should provide information about areas and/or sectors of economic distress.

¹ Regions can be non-contiguous (e.g., cluster “anchor” in one region with networked assets such as research partnerships with federal labs or supply chain linkages in other regions).

• Present a compelling description of the economics of the region and the specific cluster that will be targeted by the proposed project. This should demonstrate that the region possesses unique assets to support the cluster and has a competitive advantage in the identified industry and identify any specific economic needs and opportunities for growth. Applicants should include evidence of a concentration of firms in the identified industry sector, available industry-specific infrastructure that support the cluster, and clear leadership at the regional level in organizing and coordinating a region-wide initiative.

○ Fully describe existing regional partnerships that directly engaged in supporting the targeted cluster, including a discussion of the extent of participation and effectiveness:

○ Private sector leadership and significant participation in cluster activities;

○ Any and all cluster intermediary organization, such as an economic development organization, workforce development board, business incubator or accelerator, chamber of commerce, or a university-based consortium;

○ Universities, federally funded labs, or privately funded research and development centers;

○ Federally funded program or center, such as a Manufacturing Extension Partnership Center (MEP), Small Business Development Center, and Preferred Sustainability Status holders within the Partnership for Sustainable Communities;

○ Venture development organizations, venture capital firms, revolving loan funders, angel investment groups, community lenders, community development financial institutions, and other institutions focused on expanding access to capital;

○ Local and municipal governments, workforce development entities, communities colleges, and community-based organizations; and

○ Private foundations focused on economic or community development, science, business, and innovation.

2. Integrated Project Concept (10 Points)

Applicants must provide an Integrated Project Concept, which is a narrative summary that describes the proposed project with a maximum of 5 pages.

The narrative response must:

a. Present how the applicant intends to leverage and utilize multiple resources to meet project objectives, address identified needs and capitalize on opportunities;

b. Clearly express how the proposed scopes of work will complement each other in accelerating competitiveness in rural regions;

c. Describe how the project will promote substantive economic growth, including job creation.

Note: Applicants requesting ARC or DRA funds must also include or incorporate the proposed ARC or DRA scopes of work in their Integrated Project Concept.

3. Building Community and Regional Capacity (20 Points)

The applicant must demonstrate how they will apply USDA funds to improve the recipients' capacity, through a program of financial and technical assistance, as it related to the RCDI purposes. Capacity-building financial and technical assistance should provide new functions to the recipients or expand existing functions that will enable the recipients to undertake projects in the areas of housing, community facilities, or community and economic development that will benefit the community. The proposed program of financial and technical assistance provided, its delivery, and the measurability of its effectiveness will determine the merit of the application.

Capacity-building financial and technical assistance may include: Training to conduct community development programs, e.g., the establishment of minority business entrepreneurs, cooperatives, or micro-enterprises; organizational development, e.g., assistance to develop or improve board operations, management, and financial systems; instruction on how to develop and implement a strategic plan; instruction on how to access alternative funding sources to increase leveraging opportunities; staffing, e.g., hiring a person at intermediary or recipient level to provide technical assistance to recipients.

The narrative response must:

a. Describe the nature of financial and technical assistance to be provided to the recipients and the activities that will be conducted to deliver the technical assistance;

b. Explain how financial and technical assistance will develop or increase the recipient's capacity. Indicate whether a new function is being developed or if existing functions are being expanded or performed more effectively;

c. Identify which RCDI purpose areas will be addressed with this assistance: Housing, community facilities, or community and economic development.

d. Demonstrate that the applicant has conducted programs of financial and technical assistance and achieved measurable results in the areas of housing, community facilities, or community and economic development in rural areas. Provide the name, contact information, and the type and amount of the financial and technical assistance the applicant organization has provided to the following for the last 3 years:

○ Nonprofit organizations in the rural areas.

○ Low-income communities in rural areas (also include the type of entity, e.g., city government, town council or village board).

○ Federally recognized tribes or any other culturally diverse organizations.

4. Linking to Regional Clusters and Opportunities (20 Points)

The applicant must demonstrate how they will utilize EDA funds to link rural communities to markets, networks, industry clusters, and other regional opportunities and assets to improve the rural regions' competitiveness, repatriate U.S. jobs, foster job creation, retain existing jobs, support innovation, and promote private investment in the regional economy.

The narrative response must:

a. Describe the proposed activity to be implemented by the applicant and how it will link rural regions to the identified clusters and opportunities;

b. Explain how the proposed activity will address an identified need or opportunity to meet activity objectives, including supporting innovation and job growth;

c. Explain how the activity will implement goals, objectives or actions identified in a Comprehensive Economic Development Strategy or Regional Strategic Plan which addresses priorities specified at a regional scale;

d. Note the entity or entities that will oversee activity development and implementation and demonstrate that these entities have experience in the proposed activities and achieved measurable results in the areas of regional development and cluster development; and

e. Demonstrate financial resources to ensure institutional capacity to support the projects in the long-term, without significant future Federal funding.

5. Project Impact and Measurable Outcomes (20 Points)

Applications funded under this competitive solicitation are expected to identify clear goals and demonstrate potential for substantial benefits. While each funding source will identify performance metrics that applicants must track and report, applicants are encouraged to identify additional metrics that can be used to assess the impact of requested funding. Applicants must also describe mechanisms for tracking and reporting on these outcomes.

Applicants are required to submit an Integrated Work Plan (IWP) as part of their submission package. The IWP is designed to document the key activities that will be supported by Funding Agency, the anticipated dates these activities will be completed, and the anticipated core impacts that each activity is expected to yield in the short-term (during the 3 year project period) and the long-term (within three years after project end date). The impacts set forth in the IWP should be forecasts based on each activity; grantees will be required to report on progress towards reaching these forecasts throughout the life of the project.

Applicants should utilize the Excel-based IWP template available on the Rural Jobs Accelerator Web site, http://www.rurdev.usda.gov/RuralJobsAccelerator. Each measure should be broken down by funding source (i.e. EDA, USDA, ARC, and DRA), clearly linking proposed funding to specific outcomes. A copy of the IWP template is included as Attachment A to this FFO for reference (please note how activities, expected deadlines, and anticipated impacts are separately reported for each funding agency).

All applicants are required to utilize and include the following measures in their IWP to report on anticipated project impacts:

• Jobs Created during the Project Period—Applicants should include an estimate of the number of jobs that will be created during the three year project period as a direct result of funding from one of the Funding Partners. Anticipated jobs created should be reported as full time equivalent (FTE) or equivalents which are annualized for the entire project period.

• Jobs Retained during the Project Period—Applicants should include an estimate of the number of jobs expected to be retained during the three year project period as a direct result of funding from each of the Funding Partners. Anticipated jobs retained should be reported as FTEs or equivalents which are annualized for the entire project period.

• Private Investment Leverage during the Project Period—Applicants should include an estimate of the amount of private investment that will be leveraged during the three year project period as a direct result of funding from one of the Funding Partners.

• Businesses Assisted during the Project Period—Applicants should include an estimate of the number of businesses expected to be assisted during the three year project period as a direct result of funding from one of the Funding Partners.

• Engagement and Collaboration of Regional Organizations—Applicants should include an estimate of the number and types of organizations within the region expected to be engaged in the project during the three year project period.

• Long-term Jobs Created—Applicants should include an estimate of the number of jobs expected to be created within three years after project is completed (within six years from project inception) that result from funding from one of the Funding Partners. Anticipated long-term jobs created should be reported as FTEs or equivalents which are annualized for the entire six year period since the original grant award.

• Long-term Jobs Retained—Applicants should include an estimate of the number of jobs expected to be retained within three years after project is completed (within six years from project inception) that result from funding from one of the Funding Partners. Anticipated long-term jobs retained should be reported as FTEs or equivalents which are annualized for the entire six year period since the original grant award.

• Long-term Private Investment Leveraged—Applicants should include an estimate of the amount of private investment that will be leveraged within three years after project is completed (within six years from project inception) that result from funding from one of the Funding Partners. Funds reported should reflect the cumulative amount of private investment anticipated to be leveraged for the entire six year period since the original grant award.

• Long-term Businesses Assisted—Applicants should include an estimate of the number of businesses that will be assisted three years after project is completed (within six years from project inception) that result from funding from one of the Funding Partners.

Additionally, applicants are encouraged to provide other self-identified measures within the IWP which are specific to their proposed project activities. Such measures should align with the objectives of the individual project, as well as the overall Rural Jobs Accelerator initiative. For example, applicants may consider the following types of measures:

• Cooperation:

○ Number of organizations actively engaged in the cluster (and new ones added to the network)

○ Number of symposia held by the cluster

○ Number of further cooperative agreements as a result of the supported activity

• Innovation:

○ Number of new projects developed

○ Number of education and training activities related to innovation

○ Number of workshops and seminars related to innovation

• Workforce Skills:

○ Percentage of employees for which training was provided by this project

○ Average number of qualified applicants per job

○ Number of recruitment events at universities and community colleges

• Business Creation:

○ Number of newly formed businesses as a result of the supported activity

○ Number of jobs relocated from outside the U.S. to the region

• Housing Support:

○ Change in available housing units in supported communities

• Access to Capital:

○ Amount and number of new equity investments in cluster firms

○ Amount and number of new loans to cluster firms

• Market Development:

○ Dollar increase in exports resulting from the project activities

Applicants should note that the submitted IWP and associated information will form the basis by which selected projects will be monitored. Grantees will be required to submit regular reports to the Funding Partners which document project progress against the scopes of work, deadlines, and short-term measures outlined in the original IWP. Reporting requirements will be outlined in the terms and conditions of the grant award.

Applicant teams requesting funding from ARC or DRA should include measures for those funding agencies in the IWP.

Evaluation criterion for this section will be based on the following:

a. Includes specific and quantifiable measures of project impacts that benefit the regional economy and will support the cluster;

b. Presents measures that are relevant to the proposed scopes of work and objectives;

c. Presents measures that will help monitor progress towards meeting the objectivities of the Rural Jobs Accelerator; and

d. Presents practical and clear tracking and reporting mechanisms.

6. Soundness of Approach (15 Points)

The overall proposal will be considered under this criterion. Applicants must list the page numbers in the application that address these factors.

The narrative response must demonstrate:

a. The ability to implement the proposed scopes of work based on prior accomplishments has been demonstrated for both Building Community and Regional Capacity and Regional Linkages scopes of work.

b. The proposed technical assistance program and regional linkages program is clearly stated and the application has defined how this proposal will be implemented. The plan for implementation is viable for both Building Community and Regional Capacity and Regional Linkages scopes of work.

c. Cost effectiveness will be evaluated based on the budget in the application for both Building Community and Regional Capacity and Regional Linkages scopes of work. For the Building Community and Regional Capacity activity the proposed grant amount and matching funds should be utilized to maximize capacity building at the recipient level.

d. The proposal fits the objectives for which applications were invited.

Application and Eligibility Review

Each Funding Agency will conduct an initial application and eligibility review of applications submitted and received by the deadline Each Funding Agency will independently review applications to ensure compliance with its agency-specific requirements. This review will determine if the application satisfies: (a) All requirements for a complete submission (including all required forms, documentation of matching funds, and addenda to the Project Description); (b) agency-specific eligibility criteria; and (c) agency-specific requirements for permitted activities. Applications found to be responsive will be forwarded for merit review.

Merit Review Panels

Upon completion of the application and eligibility review, Merit Review Panels comprised of Federal employees from the Funding Agencies, who will review and evaluate applications deemed responsive. Merit Review Panels may also include experts from Support Agencies. The Merit Review Panels will evaluate the applications against the evaluation criteria enumerated. The Merit review Panels will award up to 100 points to each application, rank the applications by consensus, and forward the evaluation findings and rankings to the Policy Review and Recommendation Committee.

Policy Review and Recommendation Committee

Upon completion of the merit review, the Policy Review and Recommendation Committee composed of senior officials from the Primary Funding Agencies will review the top 30 ranked applications, or approximately 5 per EDA Region. This Committee will evaluate the applications based on how well they meet the purposes of the Rural Job Accelerator initiative. They may consider such factors as, geographic balance in distribution of program funds, balance of diverse project types in the distribution of program funds, balanced funding for a diverse group of organizations including smaller and rural organizations that may form part of a broader consortium to serve diverse populations, the availability of funds, the applicant's performance under previous Federal financial assistance awards, and the extent to which the applicant integrates and leverages multiple Federal resources to effectively support rural region and cluster development. For projects based within regions serviced by the Delta Regional Authority and the Appalachian Regional Commission, the Policy Review and Recommendation Committee will give additional consideration to projects that fully integrate and leverage the resources provided by these agencies. Based on these combined factors, the Policy Review and Recommendation Committee will recommend approximately twenty applications to the agency principals and selecting officials.

Agency Principals and Selecting Officials

Agency principals and selecting officials will work together to make the final award determinations. The agency principals for the Primary Funding agencies include the Assistant Secretary of Commerce for Economic Development and the Undersecretary for Rural Development of the U.S. Department of Agriculture.

Selecting officials are authorized to finalize funding decisions and make awards. The USDA selecting official will be the Tammye Trevino, Administrator for Rural Housing Service.

Selecting officials may follow the recommendations of the Policy Review and Recommendation Committee, or may consider additional information in making their selections. If a selecting official makes a selection of an application that is not included in the set of applications recommended by the Policy Review and Recommendation Committee, the selecting official must document the rationale for the decision in writing.

Unsuccessful Competition

On occasion, competitive solicitations or competitive panels produce less than optimum results, such as a competition resulting in the receipt of no applications, a competition resulting in the receipt of only unresponsive or unqualified applications, or too few highly rated applications. In the event that these conditions arise, the Funding Agencies shall take the most time- and cost-effective approach available that is in the best interest of the Federal government. This includes (1) Re-competition, (2) re-paneling, or (3) formal negotiation.

Transparency

The agencies and bureaus involved in this initiative are committed to conducting a transparent grant award process and publicizing information about investment decisions. Applicants are advised that their respective applications and information related to its review and evaluation may be shared publicly as permitted by law. In addition, information about the grant award progress and related results may also be made publicly available. USDA may release a list of Rural Jobs Accelerator applicants including organization, project name, city and state.

Additional information regarding the “Rural Jobs and Innovation Accelerator Challenge” can be found at http://www.rurdev.usda.gov/RuralJobsAccelerator.html.

Submission of Applications

An applicant may obtain the appropriate application package electronically at Grants.gov. All components of the appropriate application package may be accessed and downloaded (in a screen-fillable format) at www.grants.gov/applicants/apply_for_grants.jsp. The preferred electronic file format for attachments is PDF; however, electronic files in Microsoft Word, WordPerfect, or Microsoft Excel will also be accepted. The applicant must complete the Grants.gov registration process to submit applications through Grants.gov; however, please note that registration is not required for an applicant to access, view, or download the application packages. Alternatively, an applicant may request a paper application package by contacting the USDA Rural Development State Office listed in this Notice.

Electronic Submission

The Primary Funding Agencies encourage electronic submission of applications through Grants.gov. Applicants should not wait until the application closing date to begin the registration and submission process. In order to submit an application through Grants.gov, applicants first must register for a Grants.gov user id and password. Note that this registration process can take between three to five business days or as long as two weeks if all steps are not completed in a timely manner (see http://www.grants.gov/applicants/get_registered.jsp). Applicants should register as organizations, not as individuals. Please note that organizations already registered with Grants.gov do not need to re-register; however, all registered organizations must keep their Central Contractor Registration (CCR) database registration up-to-date and must designate the person submitting the application on behalf of the organization as an Authorized Organizational Representative (AOR). See the following discussion of AOR requirements in this section.

An application that is not validated and time-stamped by Grants.gov by the applicable deadline will not be processed.

Applicants need to be aware that once an application is submitted, it undergoes a validation process through Grants.gov in which the application may be accepted or rejected by the system. The validation process may take 24 to 48 hours to complete. Applications that contain errors will be rejected by Grants.gov and will not be forwarded to the Funding Agencies for review. The applicant must correct the error before Grants.gov will accept and validate the application. The Funding Agencies will not accept late applications that were rejected by Grants.gov due to errors. Accordingly, the Funding Agencies strongly suggest that applicants submit their applications at least four to five days before the application deadline to allow the application to be accepted and validated by Grants.gov and to allow time for errors to be corrected. The Funding Agencies will consider the time-stamp on the validation from Grants.gov as the official submission time.

AOR requirement. Applicants must register as organizations, not as individuals, and must register at least one Authorized Organizational Representative (AOR) for your organization. AORs registered at Grants.gov are the only officials with the authority to submit applications via Grants.gov. If the application is submitted to Grants.gov by anyone other than your organization's AOR, it will be rejected by Grants.gov and cannot be considered. Please note: An Applicant Team must submit its application package using the registered AOR for the organization applying for EDA funds.

The Funding Agencies will not accept late submissions caused by Grants.gov registration issues, including CCR and AOR issues.

The following instructions provide step-by-step instructions for accessing, completing, and submitting an application via Grants.gov. Save the application package at regular intervals to avoid losing work.

a. Navigate to the URL www.grants.gov.

b. Select “Apply for Grants” from the left-hand menu at Grants.gov.

c. Ensure that you have installed a Grants.gov compatible version of Adobe Acrobat Reader on your computer. Incompatible versions of Adobe Acrobat Reader may cause errors. Please see compatible versions of Adobe Reader at http://grants.gov/help/download_software.jsp#adobe811.

d. Select the link “Download a Grant Application” package.

e. Enter [[“Rural Jobs Accelerator 2012”]] as the Funding Opportunity Number and click on “Download Package.”

f. Click on the “Download” link.

g. Click on “Download Application Package.”

h. Save the application package to your computer or network drive. Note that the application package file can be shared among multiple users; however, each user must have a Grants.gov compatible version of Adobe Acrobat Reader installed in order to save changes to the application package.

i. Click on each of the documents in the “Mandatory Documents” box and, after selecting each one, click on the arrow to move these into the “Mandatory Documents for Submission” box.

j. In the “Optional Documents” box, click on Form SF-LLL if non-Federal funds have been or are planned to be used for lobbying in connection with a covered federal transaction, including this competitive solicitation and then move this to the “Optional Documents for Submission” box. If you will submit your application via Grants.gov, also click on “Attachments” and move this to the “Optional Documents for Submission” box. The Attachments Form also allows applicants to attach the Project Description documents, forms, and other documents required as addenda under this competition. Note that if the applicant is not submitting electronically, the Project Description documents and other required forms and addenda all must be printed and submitted in hard copy via a CD or paper.

k. The application package should pre-populate with all selected forms embedded. Complete all mandatory fields (highlighted in yellow) on the forms. Note that mandatory fields will vary based on the type of applicant and the type of assistance sought. On Form CD-511, type “not awarded yet” in the “project number” field.

l. Attach the Project Description documents and other required forms and addenda. Note, the mandatory USDA forms can be found on the “Full Announcement” tab, and must be included as attachments to the application. The preferred electronic file format for the required attachments is PDF; however, the Funding Agencies will accept electronic files in Microsoft Word, WordPerfect, or Excel formats.

m. When all mandatory fields have been completed, scroll to the top and click on “Check Package for Errors.”

n. Click “Save.”

o. Click “Save and Submit.” At this point, the registered AOR for the EDA applicant must be connected to the Internet and will be prompted to enter the appropriate Grants.gov user id and password in order to electronically submit the application.

Verify submission was successful. Applicants should save and print written proof of an electronic submission made at Grants.gov. Applicants can expect to receive multiple emails regarding the status of their submission. Since email communication can be unreliable, applicants must proactively check on the status of their application if they do not receive email notifications within a day of submission. The first email should confirm receipt of the application, and the second should indicate that the application has either been successfully validated by the system before transmission to the Funding Agencies or has been rejected due to errors. Please note: That it can take up to two business days after Grants.gov receives an application for applicants to receive email notification of an error. An applicant will receive a third email once EDA has retrieved an application from Grants.gov.

Applicants should refrain from submitting multiple copies of the same application package. Applicants should save and print both the submitted application confirmation screen provided on Grants.gov, and the confirmation email sent by Grants.gov when the application has been successfully received and validated in the system. If an applicant receives an email from Grants.gov indicating that the application was received and subsequently validated, but does not receive an email from Grants.gov indicating that EDA has retrieved the application package within 72 hours of that email, the applicant may contact the appropriate person listed in Appendix F. of this FFO to inquire if EDA is in receipt of the submission.

It is the applicant's responsibility to verify that its submission was received and validated successfully at Grants.gov. To see the date and time your application was received, log on to Grants.gov and click on the “Track My Application” link from the left-hand menu. For a successful submission, the application must be received and validated by Grants.gov, and an agency tracking number assigned. If your application has a status of “Received” it is awaiting validation by Grants.gov. Once validation is complete, the status will change to “Validated” or “Rejected with Errors.” If the status is “Rejected with Errors,” your application has not been received successfully. Some of the reasons Grants.gov may reject an application can be found at http://www.grants.gov/applicants/submit_application_faqs.jsp.

Systems issues. If you experience a Grants.gov “systems issue” (technical problems or glitches with the Grants.gov Web site) that you believe threatens your ability to complete a submission, please (a) print any error message received and (b) call the Grants.gov Contact Center at 1-800-518-4726 for immediate assistance. Ensure that you obtain a case number regarding your communications with Grants.gov. Please note: Problems with an applicant organization's computer system or equipment are not considered “systems issues.” Similarly, an applicant's failure to (a) complete the registration, (b) ensure that a registered AOR with the EDA applicant submits the application, or (c) notice receipt of an email message from Grants.gov, are not considered systems issues. A Grants.gov “systems issue” is an issue occurring in connection with the operations of Grants.gov itself, such as the temporary loss of service by Grants.gov due to an unexpected volume of traffic or failure of information technology systems, both of which are highly unlikely.

Applicants should access the following link for assistance in navigating Grants.gov and for a list of useful resources: http://www.grants.gov/help/help.jsp. Also, the following link lists frequently asked questions (FAQs): www.grants.gov/applicants/submit_application_faqs.jsp. If you do not find an answer to your question under the “Applicant FAQs,” try consulting the “Applicant User Guide” or contacting Grants.gov via email at support@grants.gov or telephone at 1-800-518-4726. The Grants.gov Contact Center is open 24 hours a day, seven days a week.

Entities wishing to apply for assistance may download the application documents and requirements delineated in this Notice from the RCDI Web site: http://www.rurdev.usda.gov/rhs/rcdi. Application information for electronic submissions may be found at http://www.grants.gov.

Applicants may also request paper application packages from the Rural Development office in their state.

Applicants have the option of submitting their application on a CD or a completed paper application. Proposals submitted via CD or paper must be received at or before 5 p.m. Eastern time on May 9, 2012 at the following address: Attn: Terry D'Addio, U.S. Department of Agriculture, 14th and Independence Avenue SW., Room 6015-S, Washington, DC 20250.

Proposals shall be submitted in sealed envelopes or packages with a cover page labeled with “Fiscal Year (FY) 2012 Rural Jobs Accelerator,” the project name; and the organizations included in the application. One original and two copies of the CD or paper submission must be delivered via postal mail or courier service with a postmark or courier service's time and date stamp on or before the deadline. USDA mail security measures may delay receipt of United States Postal Service mail for up to three weeks. Therefore, applicants that submit via paper or CD are strongly advised to use carriers with guaranteed delivery services and that provide confirmation that indicates the application was delivered by the deadline.

CDs must be labeled with the project name and verified as virus free. The Funding Agencies will not review any proposals submitted on CDs on which viruses are detected.

The CD or paper submission must include all the required forms, Project Description documents and addenda for all applicants proposing scopes of work for the joint project (see section V.C. of this FFO for application content requirements).

The applicant may download the appropriate application package in a screen-fillable format from http://www.grants.gov/applicants/apply_for_grants.jsp, save it electronically, and upload it onto the CD.

If your application is received after the deadline, it will not be reviewed.

Selection of an organization under this FFO does not constitute approval of the proposed project as submitted. Before any funds are awarded, the Funding Agencies may enter into negotiations about such items as program components, staffing and funding levels, and administrative systems in place to support implementation of the award. The amount of available funding may require the final award amount to be less than that requested by the applicant. If the negotiations do not result in a mutually acceptable submission, the Grants Officer for the applicable Funding Agency reserves the right to terminate the negotiations and decline to fund the application. The Funding Agencies reserve the right not to fund any application received under this competitive solicitation.

Unsuccessful Competition

On occasion, competitive solicitations or competitive panels produce less than optimum results, such as a competition resulting in the receipt of no applications, a competition resulting in the receipt of only unresponsive or unqualified applications, or too few highly rated applications. In the event that these conditions arise, the Funding Agencies shall take the most time- and cost-effective approach available that is in the best interest of the Federal government. This includes (1) Re-competition, (2) re-paneling, or (3) formal negotiation.

Part VIII—Award Administration Information

A. General Information

Within the limit of funds available for such purpose, the awarding official of the Agency shall make grants in ranked order to eligible applicants under the procedures set forth in this Notice.

B. Award Notice

Applicants will be notified of selection by letter. Unsuccessful applicants will receive notification including appeal rights by mail. In addition, selected applicants will be requested to verify that components of the application have not changed at the time of selection and on the award obligation date, if requested by the Agency. The award is not approved until all information has been verified, and the awarding official of the Agency has signed Form RD 1940-1, “Request for Obligation of Funds.”

C. Administrative and National Policy Requirements

Grantees will be required to do the following:

1. Execute a Rural Community Development Initiative Grant Agreement.

2. Execute Form RD 1940-1.

3. Use Form SF 270, “Request for Advance or Reimbursement,” to request reimbursements. Provide receipts for expenditures, timesheets and any other documentation to support the request for reimbursement.

4. Provide financial status and project performance reports on a quarterly basis starting with the first full quarter after the grant award.

5. Maintain a financial management system that is acceptable to the Agency.

6. Ensure that records are maintained to document all activities and expenditures utilizing RCDI grant funds and matching funds. Receipts for expenditures will be included in this documentation.

7. Provide annual audits or management reports on Form RD 442-2, “Statement of Budget, Income and Equity,” and Form RD 442-3, “Balance Sheet,” depending on the amount of Federal funds expended and the outstanding balance.

8. Collect and maintain data provided by recipients on race, sex, and national origin and ensure recipients collect and maintain the same data on beneficiaries. Race and ethnicity data will be collected in accordance with OMB Federal Register notice, “Revisions to the Standards for the Classification of Federal Data on Race and Ethnicity,” (62 FR 58782), October 30, 1997. Sex data will be collected in accordance with Title IX of the Education Amendments of 1972. These items should not be submitted with the application but should be available upon request by the Agency.

9. Provide a final project performance report.

10. Identify and report any association or relationship with Rural Development employees.

11. The intermediary and recipient must comply with Title VI of the Civil Rights Act of 1964, Title VII of the Civil Rights Act of 1968, Title IX of the Education Amendments of 1972, Section 504 of the Rehabilitation Act of 1973, the Age Discrimination Act of 1975, Executive Order 12898, Executive Order 12250 and RD Instruction 7 CFR part 1901-E.

12. The grantee must comply with policies, guidance, and requirements as described in the following applicable OMB Circulars and Code of Federal Regulations:

a. OMB Circular A-87 (Cost Principles for State, Local, and Indian Tribal Government);

b. OMB Circular A-122 (Cost Principles for Non-profit Organizations);

c. OMB Circular A-133 (Audits of States, Local Governments, and Non-Profit Organizations);

d. 7 CFR part 3015 (Uniform Federal Assistance Regulations);

e. 7 CFR part 3016 (Uniform Administrative Requirements for Grants and Cooperative Agreements to State and Local Governments);

f. 2 CFR parts 417 and 180 (Government-wide Debarment and Suspension (Nonprocurement);

g. 7 CFR part 3019 (Uniform Administrative Requirements for Grants and Agreements with Institutions of Higher Education, Hospitals, and Other Non-profit Organizations); and

h. 7 CFR part 3052 (Audits of States, Local Governments, and Non-Profit Organizations).

Additional Requirements

No Obligation for Future Funding

If an applicant is awarded funding under this Notice, USDA is not under any obligation to provide any additional future funding in connection with that award or to make future award(s). Amendment or renewal of an award to increase funding or to extend the period of performance is at the discretion of USDA.

Freedom of Information Act Disclosure

The Freedom of Information Act (5 U.S.C. 552) (FOIA) and the USDA's implementing regulations at 7 CFR part 1, subpart A set forth the rules and procedures to make requested material, information and records publicly available. Unless prohibited by law and to the extent permitted under FOIA, contents of applications submitted by applicants may be released in response to FOIA requests.

Past Performance and Non-Compliance With Award Provisions

Unsatisfactory performance under prior Federal awards may result in an application not being considered for funding. Failure to comply with any or all of the provisions of an award may have a negative impact on future funding by the USDA and may be considered grounds for any or all of the following actions: (1) Establishing an account receivable; (2) withholding payments to the recipient under any USDA award(s); (3) changing the method of payment from advance to reimbursement only; (4) imposing other special award conditions; (5) suspending any active USDA award(s); and (6) terminating any active USDA award(s).

Part IX—Agency Contact

Contact the Rural Development office in the state where the applicant's headquarters is located. A list of Rural Development State Offices is included in this Notice.

Part X—Nondiscrimination Statement

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Rights, 1400 Independence Avenue SW., Washington, DC 20250-9410, or call (800) 795-3272 (voice) or (202) 720-6382 (TDD). USDA is an equal opportunity provider, employer, and lender.

Part XI—Appeal Process

All adverse determinations regarding applicant eligibility and the awarding of points as part of the selection process are appealable pursuant to 7 CFR part 11. Instructions on the appeal process will be provided at the time an applicant is notified of the adverse decision.

Grant Amount Determination

In the event the applicant is awarded a grant that is less than the amount requested, the applicant will be required to modify its application to conform to the reduced amount before execution of the grant agreement. The Agency reserves the right to reduce or withdraw the award if acceptable modifications are not submitted by the awardee within 15 working days from the date the request for modification is made. Any modifications must be within the scope of the original application.

Rural Development State Office Contacts

Note: Telephone numbers listed are not toll-free.

Alabama State Office

Suite 601, Sterling Centre, 4121 Carmichael Road, Montgomery, AL 36106-3683, (334) 279-3400, TDD (334) 279-3495, Allen Bowen.

Alaska State Office

800 West Evergreen, Suite 201, Palmer, AK 99645, (907) 761-7778, TDD (907) 761-8905, Merlaine Kruse.

Arizona State Office

230 North 1st Avenue, Suite 206, Phoenix, AZ 85003, (602) 280-8747, TDD (602) 280-8705, Leonard Gradillas.

Arkansas State Office

700 W. Capitol Ave., Rm. 3416, Little Rock, AR 72201-3225, (501) 301-3265, TDD (501) 301-3200, Stephen Lagasse.

California State Office

430 G Street, Agency 4169, Davis, CA 95616-4169, (530) 792-5810, TDD (530) 792-5848, Janice Waddell.

Colorado State Office

Denver Federal Center, Building 56, Room 2300, P.O. Box 25426*, Denver, CO 80225-0426, (720) 544-2927, TDD (720) 544-2976, Jerry Tamlin.

Connecticut

Served by Massachusetts State Office.

Delaware and Maryland State Office

1221 College Park Dr., Suite 200, Dover, DE 19904-8713, (302) 857-3627, TDD (302) 857-3585, Denise MacLeish.

Florida & Virgin Islands State Office

4440 NW. 25th Place, P.O. Box 147010, Gainesville, FL 32614-7010, (352) 338-3485, TDD (352) 338-3499, Michael Langston.

Georgia State Office

Stephens Federal Building, 355 E. Hancock Avenue, Athens, GA 30601-2768, (706) 546-2171, TDD (706) 546-2034, Jerry M. Thomas.

Guam

Served by Hawaii State Office.

Hawaii, Guam, & Western Pacific Territories State Office

Room 311, Federal Building, 154 Waianuenue Avenue, Hilo, HI 96720, (808) 933-8317, TDD (808) 933-8321, Alton Kimura.

Idaho State Office

9173 West Barnes Dr., Suite A1, Boise, ID 83709, (208) 378-5617, TDD (208) 378-5600, David A. Flesher.

Illinois State Office

2118 West Park Court, Suite A, Champaign, IL 61821, (217) 403-6209, TDD (217) 403-6240, Michael Wallace.

Indiana State Office

5975 Lakeside Boulevard, Indianapolis, IN 46278-1996, (317) 290-3100 (ext. 407), TDD (317) 290-3343, Rochelle Owen.

Iowa State Office

873 Federal Building, 210 Walnut Street, Des Moines, IA 50309, (515) 284-4459, TDD (515) 284-4858, Karla Peiffer.

Kansas State Office

1303 SW. First American Place, Suite 100, Topeka, KS 66604-4040, (785) 271-2728, TDD (785) 271-2767, Kent Evans.

Kentucky State Office

771 Corporate Drive, Suite 200, Lexington, KY 40503, (859) 224-7415, TDD (859) 224-7300, Vernon Brown.

Louisiana State Office

3727 Government Street, Alexandria, LA 71302, (318) 473-7965, TDD (318) 473-7920, Richard Hoffpauir.

Maine State Office

967 Illinois Ave., Suite 4, P.O. Box 405, Bangor, ME 04402-0405, (207) 990-9124, TDD (207) 942-7331, Ron Lambert.

Maryland

Served by Delaware State Office.

Massachusetts, Connecticut, & Rhode Island State Office

451 West Street, Suite 2, Amherst, MA 01002-2999, (413) 253-4300, TDD (413) 253-7068, Daniel R. Beaudette.

Michigan State Office

3001 Coolidge Road, Suite 200, East Lansing, MI 48823, (517) 324-5208, TDD (517) 337-6795, Christine M. Maxwell.

Minnesota State Office

410 Farm Credit Service Building, 375 Jackson Street, St. Paul, MN 55101-1853, (651) 602-7800, TDD (651) 602-3799, Terry Louwagie.

Mississippi State Office

Federal Building, Suite 831, 100 W. Capitol Street, Jackson, MS 39269, (601) 965-4326, TDD (601) 965-5850, Darnella Smith-Murray.

Missouri State Office

601 Business Loop 70 West, Parkade Center, Suite 235, Columbia, MO 65203, (573) 876-0976, TDD (573) 876-9480, Clark Thomas.

Montana State Office

2229 Boot Hill Court, Bozeman, MT 59715, (406) 585-2520, TDD (406) 585-2545, Steve Troendle.

Nebraska State Office

Federal Building, Room 152, 100 Centennial Mall N., Lincoln, NE 68508, (402) 437-5559, TDD (402) 437-5551, Denise Brosius-Meeks.

Nevada State Office

1390 South Curry Street, Carson City, NV 89703-9910, (775) 887-1222 (ext. 113), TDD 7-1-1, Cheryl Couch.

New Hampshire

Served by Vermont State Office.

New Jersey State Office

8000 Midlantic Drive, 5th Floor North, Suite 500, Mt. Laurel, NJ 08054, (856) 787-7753, Kenneth Drewes.

New Mexico State Office

6200 Jefferson St. NE., Room 255, Albuquerque, NM 87109, (505) 761-4954, TDD (505) 761-4938, Martha Torrez.

New York State Office

The Galleries of Syracuse, 441 S. Salina Street, Suite 357, Syracuse, NY 13202-2541, (315) 477-6400, TDD (315) 477-6447, Gail Giannotta.

North Carolina State Office

4405 Bland Road, Suite 260, Raleigh, NC 27609, (919) 873-2063, TDD (919) 873-2003, William A. Hobbs.

North Dakota State Office

Federal Building, Room 208, 220 East Rosser Ave., P.O. Box 1737, Bismarck, ND 58502-1737, (701) 530-2029, TDD (701) 530-2113, Mark Wax.

Ohio State Office

Federal Building, Room 507, 200 North High Street, Columbus, OH 43215-2418, (614) 255-2391, TDD (614) 255-2554, David M. Douglas.

Oklahoma State Office

100 USDA, Suite 108, Stillwater, OK 74074-2654, (405) 742-1061, TDD (405) 742-1007, Jerry Efurd.

Oregon State Office

1201 NE Lloyd Blvd., Suite 801, Portland, OR 97232, (503) 414-3362, TDD (503) 414-3387, Sam Goldstein.

Pennsylvania State Office

One Credit Union Place, Suite 330, Harrisburg, PA 17110-2996, (717) 237-2281, TDD (717) 237-2281, Susanne Gantz.

Puerto Rico State Office

654 Muñoz Rivera Avenue, Suite 601, San Juan, PR 00918-6106, (787) 766-5095, TDD (787) 766-5332, Nereida Rodriguez.

Rhode Island

Served by Massachusetts State Office.

South Carolina State Office

Strom Thurmond Federal Building, 1835 Assembly Street, Room 1007, Columbia, SC 29201, (803) 253-3425, TDD (803) 765-5697, Jesse T. Risher.

South Dakota State Office

Federal Building, Room 210, 200 Fourth Street SW., Huron, SD 57350, (605) 352-1145, TDD (605) 352-1147, Doug Roehl.

Tennessee State Office

Suite 300, 3322 West End Avenue, Nashville, TN 37203-1071, (615) 783-1345, TDD (615) 783-1397, Keith Head.

Texas State Office

Federal Building, Suite 102, 101 South Main, Temple, TX 76501, (254) 742-9787, TDD (254) 742-9749, Michael B. Canales.

Utah State Office

Wallace F. Bennett Federal Building, 125 South State Street, Room 4311, P.O. Box 11350, Salt Lake City, UT 84138, (801) 524-4326, TDD (801) 524-3309, Debra Meyer.

Vermont State Office

City Center, 3rd Floor, 89 Main Street, Montpelier, VT 05602, (802) 828-6033, TDD (802) 223-6365, Rhonda Shippee.

Virgin Islands

Served by Florida State Office.

Virginia State Office

Culpeper Building, Suite 238, 1606 Santa Rosa Road, Richmond, VA 23229, (804) 287-1577, TDD (804) 287-1753, Kent Ware.

Washington State Office

1835 Black Lake Boulevard, SW., Suite B, Olympia, WA 98512-5715, (360) 704-7737, Peter McMillin.

Western Pacific Territories

Served by Hawaii State Office.

West Virginia State Office

1550 Earl Core Road, Suite 101, Morgantown, WV 26505, (304) 284-4886, TDD (304) 284-4836, Janna Lowery.

Wisconsin State Office

4949 Kirschling Court, Stevens Point, WI 54481, (715) 345-7615, TDD (715) 345-7610, Brian Deaner.

Wyoming State Office

Federal Building, Room 1005, 100 East B Street, P.O. Box 11005, Casper, WY 82602-5006, (307) 233-6700, TDD (307) 233-6719, Alana Cannon.

Washington, DC

Stop 0787, Room 0175, 1400 Independence Avenue SW., Washington, DC 20250-0787, (202) 205-9685, Shirley J. Stevenson.

Dated: March 14, 2012.
Cristina Chiappe,
Acting Administrator, Rural Housing Service.

[FR Doc. 2012-6611 Filed 3-20-12; 8:45 am]

BILLING CODE 3410-XV-P